SECURITIES AND EXCHANGE COMMISSION

[Release No. 34-76176; File No. SR-FINRA-2015-026]

Self-Regulatory Organizations; Financial Industry Regulatory Authority, Inc.; Notice of Amendment No. 1 and Order Granting Accelerated Approval to a Proposed Rule Change, as Modified by Amendment No. 1, To Require an Indicator When a TRACE Report Does Not Reflect a Commission or Mark-up/Mark-down

October 16, 2015.

I. Introduction

On July 20, 2015, Financial Industry Regulatory Authority, Inc. (“FINRA”) filed with the Securities and Exchange Commission (“Commission”), pursuant to Section 19(b)(1) of the Securities Exchange Act of 1934 (“Act”) ¹ and Rule 19b-4 thereunder,² a proposed rule change to amend FINRA Rule 6730, which governs the reporting of eligible transactions to its Trade Reporting and Compliance Engine (“TRACE”). The proposed rule change was published for comment in the Federal Register on August 7, 2015.³ The Commission received two comment letters on the proposed rule change.⁴ On September 10, 2015, the Commission extended the time to act on the proposal until November 5, 2015.⁵ On October 6, 2015, FINRA filed Amendment No. 1 to the proposed rule change.⁶ The Commission is publishing this Notice and Order to solicit comment on Amendment No. 1 and to approve the proposed rule change, as modified by Amendment No. 1, on an accelerated basis.

¹ 15 U.S.C. 78s(b)(1).

² 17 CFR 240.19b-4.

³ See Securities Exchange Act Release No. 75588 (August 3, 2015), 80 FR 47546 (August 7, 2015) (“Notice”).

⁴ See letter from Sean Davy, Managing Director, SIFMA, to Elizabeth M. Murphy, Secretary, Commission, dated August 27, 2015 (“SIFMA Letter”); letter from Michael Nicholas, Chief Executive Officer, Bond Dealers of America, to Secretary, Commission, dated August 28, 2015 (“BDA Letter”).

⁵ See Securities Exchange Act Release No. 75875, 80 FR 55671 (September 16, 2015).

⁶ Amendment No. 1 revised the proposal to include three exceptions to the requirement that members append the “no remuneration” indicator to trade reports that do not reflect either a commission or mark-up/mark-down, for: (i) List or Fixed Offering Price Transactions, (ii) Takedown Transactions, and (iii) inter-dealer transactions. Amendment No. 1 is available in the public comment file for SR-FINRA-2015-026 on the Commission's Web site.

II. Description of the Proposal

FINRA Rule 6730 (Transaction Reporting) sets forth the requirements applicable to members reporting transactions in TRACE-Eligible Securities,⁷ and provides the specific items of information that must be included in a TRACE trade report. Rules 6730(c) and (d) require a member firm to report the commission (total dollar amount) separately on the TRACE trade report for an agency transaction. FINRA combines the dollar amount that is reported as the commission with the amount that is reported in the price field, and disseminates to the market this aggregate amount as the transaction's price. For a principal transaction, Rule 6730(d)(1) provides that a firm must report a price that includes the mark-up/mark-down, and FINRA disseminates this price to the market. FINRA notes that the goal of these reporting requirements is to provide investors and market participants with pricing information that better reflects comparable prices for principal and agency trades in a TRACE-Eligible Security.

⁷ See FINRA Rule 6710 (defining “TRACE-Eligible Security”). Most transactions reported to TRACE are publicly disseminated immediately upon receipt of a transaction report.

FINRA believes that the pricing information currently being disseminated might be incomplete and in some cases misleading, given that disseminated prices on transactions that do not include remuneration are not distinguished from transactions that do include a commission or mark-up/mark-down. This proposal is designed to provide more meaningful pricing transparency through TRACE by identifying any transaction where a commission or mark-up/mark-down was not charged or known at the time of TRACE reporting.

The proposal amends Rule 6730 to require a member firm to identify any transactions for which a commission or mark-up/mark-down is not reflected in the TRACE trade report because the firm does not charge, or does not know the amount of, the commission or mark-up/mark-down at the time of TRACE reporting. For example, a firm might assess a charge that is not transaction-based, as in the case of a “fee-based account” where remuneration is based upon assets under management (and individual commissions or mark-ups/mark-downs are not charged).⁸ Thus, for such transactions, the price is not inclusive of a commission or mark-up/mark-down. In another case, a firm might charge a commission or mark-up/mark-down, but might not know the exact amount of that commission or mark-up/mark-down at the time that the TRACE transaction report is required to be submitted because of their remuneration structure (e.g., a firm might not calculate a mark-up for a transaction on a trade-by-trade basis, but could nonetheless ultimately assess transaction remuneration pursuant to a monthly volume-based schedule).⁹ The proposal requires a firm to identify all such trades for which the firm does not charge or does not know the amount of the commission or mark-up/market-down at the time of TRACE reporting. In addition, if a firm does not charge any remuneration associated with the trade (in any form), it would be required to identify the trade as one for which no remuneration was assessed to the transaction. FINRA will flag these disseminated transactions as not being inclusive of remuneration. Based on current rules, the disseminated TRACE feed will not explicitly distinguish between agency and principal transactions, and the “no remuneration” flag will apply to both principal and agency transactions.

⁸ Another example of a fee structure that is not transaction-based is where an alternative trading system (“ATS”) charges subscribers a fixed fee for unlimited trading each month. See Notice, 80 FR at 47547.

⁹ FINRA states that, as a practical matter, firms have difficulty complying with the current TRACE rules for these types of volume-based mark-up/mark-down arrangements, since they are unable to report accurately all the required information related to the transaction on a timely basis and would need to submit a cancel and replace to update the pricing information. In some cases, this information might not be known until the end of the month. See id.

FINRA believes that, in addition to improving transparency for disseminated prices, this proposal will enhance its regulatory audit trail and surveillance patterns. With this additional level of detail, surveillance patterns should yield fewer false positives regarding mark-up and best execution surveillance, reduce regulatory inquiries, and provide greater focus for FINRA's regulatory efforts. FINRA has represented, for example, that without the “no remuneration” designation FINRA's surveillance patterns for best execution might generate alerts for transactions whose prices reflect a commission or a mark-up as being outliers compared to transactions whose prices do not reflect a charge.¹⁰

¹⁰ See Notice, 80 FR at 47548.

FINRA plans to implement the proposal on May 23, 2016.

III. Summary of Comments and Amendment No. 1

As noted above, the Commission received two comment letters on the proposal.¹¹ The SIFMA Letter generally supports the proposal. However, SIFMA believes that the requirement to report trades involving no remuneration should be limited to customer trades and should not apply to dealer-to-dealer trades, consistent with SR-MSRB-2015-02.¹² The BDA Letter also supports the proposal but recommends that the proposed reporting requirement extend only to customer trades, consistent with MSRB Rule G-14.¹³ The BDA Letter expresses concern with how the proposed requirement would affect smaller introducing dealers and dealers already having difficulty with trade reporting deadlines under current rules, particularly if the requirement applies to inter-dealer transactions.

¹¹ See supra note 4.

¹² See SIFMA Letter at 1. See also Securities Exchange Act Release No. 75039 (May 22, 2015), 80 FR 31084 (June 1, 2015) (SR-MSRB-2015-02) (approving an MSRB proposal to, among other things, require dealers to include a new indicator on their trade reports that would be disseminated publicly to distinguish customer transactions that do not include a dealer compensation component and those that include a markup, mark-down, or a commission) (“MSRB Order”).

¹³ See BDA Letter at 1.

In response to commenters' concerns, FINRA proposed in Amendment No. 1 to provide an exception to the proposed “no remuneration” requirement for inter-dealer transactions. FINRA notes that this change would further align the proposal with the comparable MSRB rule, as requested by the commenters.¹⁴ FINRA believes that, given that inter-dealer transactions typically do not involve remuneration, excluding such transactions from the requirement better focuses the use of the indicator on the types of transactions that would provide the additional price transparency sought by the proposal, which are transactions between dealers and customers.

¹⁴ The MSRB's rule limits the use of its “non-transaction-based compensation arrangement indicator” to transactions with customers. See MSRB Order, 80 FR at 31085.

Also in Amendment No. 1, FINRA proposed to add exceptions from the “no remuneration” indicator requirement for List or Fixed Offering Price Transactions, as defined in FINRA Rule 6710(q), and Takedown Transactions, as defined in FINRA Rule 6710(r). These transactions are not currently subject to dissemination; FINRA believes, therefore, that applying the “no remuneration” indicator to these transactions would not provide additional transparency to the market.

IV. Discussion and Commission Findings

After careful review of the proposal and comments submitted, the Commission finds that the proposal, as modified by Amendment No. 1, is consistent with the requirements of the Act and the rules and regulations thereunder applicable to a national securities association.¹⁵ In particular, the Commission finds that the proposed rule change is consistent with Section 15A(b)(6) of the Act,¹⁶ which requires, among other things, that FINRA's rules be designed to prevent fraudulent and manipulative acts and practices, to promote just and equitable principles of trade, and, in general, to protect investors and the public interest. The Commission also finds the proposal consistent with Section 15A(b)(9) of the Act,¹⁷ which requires that FINRA's rules not impose any burden on competition that is not necessary or appropriate in furtherance of the purposes of the Act. The Commission notes that it previously has approved a similar proposed rule change of the MSRB.¹⁸

¹⁵ In approving this proposed rule change, the Commission has considered the proposed rule's impact on efficiency, competition, and capital formation. See 15 U.S.C. 78c(f).

¹⁶ 15 U.S.C. 78o-3(b)(6).

¹⁷ 15 U.S.C. 78o-3(b)(9).

¹⁸ See MSRB Order, 80 FR at 31086-87.

The Commission believes that the proposed rule change is reasonably designed to improve transparency of disseminated TRACE trade reports by requiring firms to indicate when the trade report does not include a commission or mark-up/mark-down. Use of a “no remuneration” indicator will make investors better able to assess disseminated transaction prices. Finally, the Commission believes that it is reasonable and consistent with the Act for FINRA to provide exceptions to this requirement for inter-dealer transactions, which do not typically have remuneration, and for List or Fixed Offering Price and Takedown Transactions, for which there currently is no TRACE dissemination of the transaction information.

Therefore, the Commission finds that the proposed rule change, as modified by Amendment No. 1, is consistent with the Act.

V. Accelerated Approval of Proposal, as Modified by Amendment No. 1

The Commission finds good cause, pursuant to Section 19(b)(2) of the Exchange Act ¹⁹ for approving the proposal, as modified by Amendment No. 1, prior to the 30th day after publication of Amendment No. 1 in the Federal Register.

¹⁹ See 15 U.S.C. 78s(b)(2).

Amendment No. 1 revised the proposal to include limited exceptions to the proposed “no remuneration” indicator requirement. The Commission believes that Amendment No. 1 does not raise any novel regulatory issues because these exceptions are measured and do not appear to impose any undue burdens on affected persons.

Accordingly, the Commission finds that good cause exists to approve the proposal, as modified by Amendment No. 1, on an accelerated basis.

VI. Solicitation of Comments

Interested persons are invited to submit written data, views, and arguments concerning the foregoing, including whether Amendment No. 1 to the proposed rule change is consistent with the Act. Comments may be submitted by any of the following methods:

Electronic Comments

• Use the Commission's Internet comment form (http://www.sec.gov/rules/sro.shtml); or

• Send an email to rule-comments@sec.gov. Please include File Number SR-FINRA-2015-026 on the subject line.

Paper Comments

• Send paper comments in triplicate to Brent J. Fields, Secretary, Securities and Exchange Commission, 100 F Street NE., Washington, DC 20549-1090.

All submissions should refer to File Number SR-FINRA-2015-026. This file number should be included on the subject line if email is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549 on official business days between the hours of 10:00 a.m. and 3:00 p.m. Copies of such filing also will be available for inspection and copying at the principal offices of FINRA. All comments received will be posted without change; the Commission does not edit personal identifying information from submissions. You should submit only information that you wish to make available publicly. All submissions should refer to File Number SR-FINRA-2015-026, and should be submitted on or before November 12, 2015.

VII. Conclusion

It is therefore ordered, pursuant to Section 19(b)(2) of the Act,²⁰ that the proposed rule change (SR-FINRA-2015-026), as modified by Amendment No. 1, be, and hereby is, approved on an accelerated basis.

²⁰ 15 U.S.C. 78s(b)(2).

²¹ 17 CFR 200.30-3(a)(12).

For the Commission, by the Division of Trading and Markets, pursuant to delegated authority.²¹
Brent J. Fields,
Secretary.

[FR Doc. 2015-26808 Filed 10-21-15; 8:45 am]

BILLING CODE 8011-01-P